DEPARTMENT OF JUSTICE

National Institute of Corrections

Solicitation for a Cooperative Agreement—“Transition From Prison to the Community”

AGENCY: National Institute of Correction—Department of Justice.

ACTION: Solicitation for a cooperative agreement

SUMMARY: The Department of Justice (DOJ), National Institute of Corrections (NIC) announces the availability of funds in FY 2000 for a cooperative agreement to initiate the project “Transition from Prison to the Community.” NIC will make a multi-year award based on funding being available in the subsequent years to develop a coordinated approach to effectively transition offenders from prison to the community.

A cooperative agreement is a form of assistance relationship where NIC is substantially involved during the performance of the award. An award is made to an organization who will, in concert with NIC, identify the method and approach in developing a transition program.

Background

Return to prison is the sanction of choice by releasing authorities for offenders who violate the conditions of their release. It is estimated that approximately 35 to 40% of new admissions to state correctional facilities are the results of violations while under parole supervision. Many violations are generally technical in nature and a significant number are attributable to incomplete and/or inadequate release planning, imposition of unrealistic rules and ineffective case management. It is believed that through a systematic approach to planning, the transition from prison to the community can be managed more effectively, resulting in a greater opportunity for successful community reintegration as measured by a reduction in the reincarceration of released offenders under community supervision.

It is essential to coordinate the activities of the three (3) principal entities involved in the custody, release and supervision of offenders. Those key organizations are the state correctional institutions, the states releasing authority and the community supervision agency. The proper identification of the released population participating in the transition process, must be established through clear articulated criteria. The use of a dynamic assessment tool(s) to assist in identifying the risks and needs of the targeted offender population will be required. The instrument should assist in the development of institutional programs, pre-release plans and community supervisions strategies, in-order to address the specific risk(s) and need(s) of the individual offender.

Purpose

The purpose of this initiative is to establish through organizational policy and procedure a model approach for the transitioning of offenders from prison to the community. The model will bring together the prison administration, the releasing authority for the jurisdiction and the community supervision component for joint development of policies and procedures affecting the custody, release and supervision of offenders targeted for the transition initiative. The model should include an assessment tool(s) that is dynamic in nature to address programming and supervision requirements.

Objectives:

• To utilize the research and relevant literature regarding best practices in effective intervention and what works.

• To utilize an assessment tool that is dynamic in nature.

• To formalize a model of operating policies, across multiple agencies, for the transition process.

• To increase the effectiveness and efficiency for each organization involved in the transition process.

• To develop a monograph upon completion of the project, providing an overview of the process.

Application Requirement

Applicants must prepare a proposal that describes their plan to meet the projects objectives which should include a schedule identifying benchmarks of significant tasks in chart form. Applicants must identify their key project staff and the relevant expertise of each.

The proposal should address the following areas:

• Targeting population for release

• Assessment tools

• Relapse prevention and intervention strategies

• Range of alternative sanctions

• Individual intervention plans

• Case management method

• Community aftercare

Authority: Public Law 93-415

Funds Available

The award will be limited to a maximum of $250,000 (direct and indirect costs). Funds may only be used for the activities that are linked to the desired outcome of the project. No funds are transferred to state or local governments. This project will be a collaborative venture with the NIC Community Corrections Division.

Deadline For Receipt of Applications: Applicant must be received by 4 P.M. Eastern Time on June 30, 2000.

ADDRESSES AND FURTHER INFORMATION: Request for the application kit should be directed to Judy Evens, Cooperative Agreement Control Office, National Institute of Corrections, 320 First Street, NW, Room 5007, Washington, D.C. 20534 or by calling (800) 995-6423, extension 159 or (202) 307-3106, extension 159. She can also be contacted by E-mail via jevens@bop.gov. All technical and or programmatic questions concerning this announcement should be directed to Cranston J. Mitchell at the above address or by calling (800) 995-6423, extension 153 or (202) 307-3106, extension 153, or by E-mail via cjmitchell&bop.gov. Applicant forms may be also be obtained through the NIC web site: http://www.nicic.org (click on “ What's New”and “Cooperative Agreements'').

Mailed and express delivery applications should be sent to: National Institute of Corrections, 320 First Street, NW, Room 5007, Washington, D.C. 20534. Hand delivery should be marked 500 First Street NW. The front desk will cal Bobbi Tinsley(307-3106 and press 0) to come to the desk for pickup.

Eligible Applicants: An eligible applicant is any State or general unit of local government, public or private agency, educational institution, organization, team or individual with the required skills to successfully meet the outcome objectives of the project.

Review Considerations: Applications received under this announcement will be subjected to an NIC three to five member Peer Review Process.

Number of Awards: One (1)

NIC Application Number: 00C06. This number should appear as a reference line in the cover letter and also in box 11 of Standard Form 424.

Executive Order 12372

This program is subject to the provisions of Executive Order 12372. Executive Order 12372 allows States the option of setting up a system for reviewing applications from within their States for assistance under certain Federal programs. Applicants (other than Federally-recognized Indian tribal governments) should contact their State Single Point of Contact (SPOC), a list of which is included in the application Kit, along with further instructions on proposed projects serving more than one State.

The Catalog of Federal Domestic Assistance number is: 16.603

Dated: May 5, 2000.
Morris L. Thigpen,
Director, National Institute of Corrections.

[FR Doc. 00-11898 Filed 5-11-00; 8:45 am]

BILLING CODE 4410-36-M